DEPARTMENT OF HOMELAND SECURITY

Federal Emergency Management Agency

[Docket ID: [FEMA-2013-0020] OMB No. 1660-0114]

Agency Information Collection Activities: Proposed Collection; Comment Request

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the information collection activities required to administer the Port Security Grant Program (PSGP).

DATES: Comments must be submitted on or before July 29, 2013.

ADDRESSES: To avoid duplicate submissions to the docket, please use only one of the following means to submit comments:

(1) Online. Submit comments at www.regulations.gov under Docket ID FEMA-2013-0020. Follow the instructions for submitting comments.

(2) Mail. Submit written comments to Docket Manager, Office of Chief Counsel, DHS/FEMA, 500 C Street SW., Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Jeffrey Hall, Program Manager, FEMA, Grant Programs Directorate, (202) 786-9778. You may contact the Records Management Division for copies of the proposed collection of information at facsimile number (202) 646-3347 or email address: FEMA-Information-Collections-Management@dhs.gov.

SUPPLEMENTARY INFORMATION: The Port Security Grant Program (PSGP) is a DHS grant program that focuses on infrastructure protection activities. The PSGP is one tool in the comprehensive set of measures authorized by Congress and implemented by the Administration to strengthen the Nation's critical infrastructure against risks associated with potential terrorist attacks. The vast bulk of U.S. critical infrastructure is owned and/or operated by State, local and private sector partners. PSGP funds support increased port-wide risk management; enhanced domain awareness; training and exercises; and further capabilities to prevent, detect, respond to, and recover from attacks involving improvised explosive devices (IEDs) and other non-conventional weapons. Section 102 of the Maritime Transportation Security Act of 2002, as amended (46 U.S.C. 70107), established the PSGP to provide for the establishment of a grant program for a risk-based allocation of funds to implement Area Maritime Transportation Security Plans and facility security plans among port authorities, facility operators, and State and local government agencies required to provide port security services.

Collection of Information

Title: FEMA Preparedness Grants: Port Security Grant Program (PSGP).

OMB Number: 1660-0114.

Type of Information Collection: Revision of a currently approved information collection.

FEMA Forms: FEMA Form 089-5, PSGP Investment Justification.

Abstract: The PSGP is an important tool among a comprehensive set of measures to help strengthen the Nation against risks associated with potential terrorist attacks. DHS/FEMA uses the information to evaluate applicants' familiarity with the national preparedness architecture and identify how elements of this architecture have been incorporated into regional/state/local planning, operations, and investments.

Affected Public: State, Local or Tribal Government; business or other for-profit.

Number of Respondents: 370.

Number of Responses: 1,112.

Estimated Total Annual Burden Hours: 17,414 hours.

State Table

Table A.12—Estimated Annualized Burden Hours and Costs
Type of respondent | Form name/Form No. | Number of respondents | Number of responses per respondent | Total number of responses | Avg. burden per response (in hours) | Total annual burden (in hours) | Avg. hourly wage rate * | Total annual respondent cost
State, Local or Tribal Government | PSGP Investment Justification/FEMA Form 089-5 | 56 | 4 | 224 | 16 | 3,584 | $52.91 | $189,629.44
State, Local or Tribal Government | PSGP—Memorandum of Understanding (MOU) or Memorandum of Agreement (MOA) | 4 | 1 | 4 | 2 | 8 | 52.91 | 423.28
Total |  | 60 |  | 228 |  | 3,592 |  | 190,052.72
* Note: The “Avg. Hourly Wage Rate” for each respondent includes a 1.4 multiplier to reflect a fully-loaded wage rate.

Local Table

Table A.12—Estimated Annualized Burden Hours and Costs
Type of respondent | Form name/Form No. | Number of respondents | Number of responses per respondent | Total number of responses | Avg. burden per response (in hours) | Total annual burden (in hours) | Avg. hourly wage rate * | Total annual respondent cost
State, Local or Tribal Government | PSGP Investment Justification/FEMA Form 089-5 | 128 | 3 | 384 | 16 | 6,144 | $52.91 | $325,079.04
State, Local or Tribal Government | PSGP—Memorandum of Understanding (MOU) or Memorandum of Agreement (MOA) | 17 | 1 | 17 | 2 | 34 | 52.91 | 1,798.94
Total |  | 145 |  | 401 |  | 6,178 |  | 326,877.98
* Note: The “Avg. Hourly Wage Rate” for each respondent includes a 1.4 multiplier to reflect a fully-loaded wage rate.

Business or Other For-Profit Table

Table A.12—Estimated Annualized Burden Hours and Costs
Type of respondent | Form name/Form No. | Number of respondents | Number of responses per respondent | Total number of responses | Avg. burden per response (in hours) | Total annual burden (in hours) | Avg. hourly wage rate * | Total annual respondent cost
Business or other for-profit | PSGP Investment Justification/FEMA Form 089-5 | 159 | 3 | 477 | 16 | 7,632 | $52.91 | $403,809.12
Business or other for-profit | PSGP—Memorandum of Understanding (MOU) or Memorandum of Agreement (MOA) | 6 | 1 | 6 | 2 | 12 | 52.91 | 634.92
Total |  | 165 |  | 483 |  | 7,644 |  | 404,444.04
Grand Total |  | 370 |  | 1,112 |  | 17,414 |  | 921,374.74
* Note: The “Avg. Hourly Wage Rate” for each respondent includes a 1.4 multiplier to reflect a fully-loaded wage rate.

Estimated Cost: The estimated annual cost to respondents for the hour burden is $921,374.74. There are no annual costs to respondents operations and maintenance costs for technical services. There is no annual start-up or capital costs. The cost to the Federal Government is $897,447.60.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: May 20, 2013.
Charlene D. Myrthil,
Director, Records Management Division, Mission Support Bureau, Federal Emergency Management Agency, Department of Homeland Security.

[FR Doc. 2013-12580 Filed 5-24-13; 8:45 am]

BILLING CODE 9111-19-P